DEPARTMENT OF STATE

[Public Notice 8065]

Shipping Coordinating Committee; Notice of Committee Meeting

The Shipping Coordinating Committee (SHC) will conduct an open meeting at 9:30 a.m. on Wednesday, November 7, 2012, in Room 5-0624 of the United States Coast Guard Headquarters Building, 2100 2nd Street SW., Washington, DC 20593. The primary purpose of the meeting is to prepare for the thirty-eighth session of the International Maritime Organization's (IMO) Facilitation Committee to be held at the IMO Headquarters, London, United Kingdom, April 8-12, 2013.

The agenda items to be considered include:

—Adoption of the agenda; report on credentials.

—Decisions of other IMO bodies.

—Consideration and adoption of proposed amendments to the Convention.

—General review of the Convention, including harmonization with other international instruments:

A. Comprehensive review of the Annex to the Convention, including: Intersessional Correspondence Group (ISCG) work.

—E-business possibilities for the facilitation of maritime traffic.

A. Electronic means for the clearance of ships, cargo and passengers.

B. Electronic access to, or electronic versions of, certificates and documents required to be carried on ships, including ISCG work, including:

1. Pros and cons of relying on electronic versions of certificates.

2. Security features of electronic versions of certificates.

3. Security features of Web sites used to view certificates.

—Formalities connected with the arrival, stay and departure of persons, including:

A. Shipboard personnel.

B. Stowaways.

C. Illegal migrants.

D. Persons rescued at sea.

—Ensuring security in and facilitating international trade, including:

A. Shore leave and access to ships.

B. Trade recovery, including the following ISCG work:

1. Analysis and collection of relevant practices, standards and activities including World Customs Organization and International Organization for Standardization standards.

2. Based on analysis, develop voluntary guidelines for Maritime Trade Recovery.

—Ship/port interface.

A. Facilitation of shipments of dangerous cargoes.

—Technical co-operation and assistance.

—Relations with other organizations.

—Application of the Committee's Guidelines.

—Work programme.

A. Role, mission, strategic direction and work of the Committee, including potential future work items.

—Election of Chairman and Vice-Chairman for 2012.

—Any other business.

—Consideration of the report of the Committee on its thirty-eighth session.

Members of the public may attend this meeting up to the seating capacity of the room. To facilitate the building security process, and to request reasonable accommodation, those who plan to attend should contact the meeting coordinator, Mr. David Du Pont, by email at David.A.DuPont@uscg.mil, by phone at (202) 372-1497, by fax at (202) 372-1928, or in writing at Commandant (CG-REG), U.S. Coast Guard, 2100 2nd Street SW., Stop 7126, Washington, DC 20593-7126 not later than October 31, 2012, 7 days prior to the meeting. Requests made after October 31, 2012, might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at www.uscg.mil/imo.

Dated: October 15, 2012.
Brian Robinson,
Executive Secretary, Shipping Coordinating Committee, Department of State.

[FR Doc. 2012-25962 Filed 10-19-12; 8:45 am]

BILLING CODE 4710-09-P